LIBRARY OF CONGRESS

Copyright Royalty Board

37 CFR Part 386

[Docket No. 2010-4 CRB Satellite Rate]

Rate Adjustment for the Satellite Carrier Compulsory License

AGENCY: Copyright Royalty Board, Library of Congress.

ACTION: Final rule.

SUMMARY: The Copyright Royalty Judges are publishing final regulations setting the rates for the satellite carrier statutory license of the Copyright Act for the license period 2010-2014.

DATES: Effective Date: August 31, 2010.

Applicability Dates: These regulations apply to the license period January 1, 2010, to December 31, 2014.

FOR FURTHER INFORMATION CONTACT: Richard Strasser, Senior Attorney, or Gina Giuffreda, Attorney Advisor, by telephone at (202) 707-7658 or e-mail at crb@loc.gov.

SUPPLEMENTARY INFORMATION: On June 9, 2010, the Copyright Royalty Judges (“Judges”) received from the Program Suppliers and the Joint Sports Claimants (collectively, the “Copyright Owners”) and DIRECTV, Inc., DISH Network, LLC, and National Programming Service, LLC (collectively, the “Satellite Carriers”) a voluntary agreement negotiated pursuant to 17 U.S.C. 119 proposing rates for the satellite carrier statutory license for the period 2010-2014. The Copyright Owners and Satellite Carriers requested that the proposed rates be applied to all satellite carriers, distributors and copyright owners without holding a rate proceeding. See 17 U.S.C. 119(c)(1)(D)(ii)(I). As required by section 119(c)(1)(D)(ii)(II), the Judges published for comment the proposed rates in the Federal Register. 75 FR 39891 (July 13, 2010).

Section 119(c)(1)(D)(ii)(III) provides that the Judges shall adopt the negotiated rates “unless a party with an intent to participate in the proceeding and a significant interest in the outcome of that proceeding objects under clause (II).” Objections to the proposed rates were to be submitted no later than August 12, 2010. No objections were submitted.

Having received no objections to the proposed rates, the Judges are now adopting as final the proposed rates as published on July 13, 2010. See 75 FR 39891.

List of Subjects in 37 CFR Part 386

Copyright, Satellite, Television.

Final Regulations

For the reasons set forth in the preamble, the Copyright Royalty Judges are adding part 386 to Chapter III of title 37 of the Code of Federal Regulations to read as follows:

PART 386—ADJUSTMENT OF ROYALTY FEES FOR SECONDARY TRANSMISSIONS BY SATELLITE CARRIERS

Sec.
386.1 General.
386.2 Royalty fee for secondary transmission by satellite carriers.

Authority: 17 U.S.C. 119(c), 801(b)(1).

§ 386.1 General.

This part 386 adjusts the rates of royalties payable under the statutory license for the secondary transmission of broadcast stations under 17 U.S.C. 119.

§ 386.2 Royalty fee for secondary transmission by satellite carriers.

(a) General. (1) For purposes of this section, Per subscriber per month shall mean for each subscriber subscribing to the station in question (or to a package including such station) on the last day of a given month.

(2) In the case of a station engaged in digital multicasting, the rates set forth in paragraph (b) of this section shall apply to each digital stream that a satellite carrier or distributor retransmits pursuant to 17 U.S.C. 119, provided however that no additional royalty shall be paid for the carriage of any material related to the programming on such stream.

(b) Rates—(1) Private home viewing. The rates applicable to Satellite Carriers' carriage of each broadcast signal for private home viewing shall be as follows:

(i) 2010: 25 cents per subscriber per month (for each month of 2010);

(ii) 2011: The 2010 rate, adjusted for the amount of inflation as measured by the change in the Consumer Price Index for all Urban Consumers All Items for October 2009 to October 2010;

(iii) 2012: The 2011 rate, adjusted for the amount of inflation as measured by the change in the Consumer Price Index for all Urban Consumers All Items for October 2010 to October 2011;

(iv) 2013: The 2012 rate, adjusted for the amount of inflation as measured by the change in the Consumer Price Index for all Urban Consumers All Items from October 2011 to October 2012;

(v) 2014: The 2013 rate, adjusted for the amount of inflation as measured by the change in the Consumer Price Index for all Urban Consumers All Items from October 2012 to October 2013.

(2) Viewing in commercial establishments. The rates applicable to Satellite Carriers' carriage of each broadcast signal for viewing in commercial establishments shall be as follows:

(i) 2010: 50 cents per subscriber per month (for each month of 2010);

(ii) 2011: The 2010 rate, adjusted for the amount of inflation as measured by the change in the Consumer Price Index for all Urban Consumers All Items from October 2009 to October 2010;

(iii) 2012: The 2011 rate, adjusted for the amount of inflation as measured by the change in the Consumer Price Index for all Urban Consumers All Items from October 2010 to October 2011;

(iv) 2013: The 2012 rate, adjusted for the amount of inflation as measured by the change in the Consumer Price Index for all Urban Consumers All Items for October 2011 to October 2012;

(v) 2014: The 2013 rate, adjusted for the amount of inflation as measured by the change in the Consumer Price Index for all Urban Consumers All Items from October 2012 to October 2013.

Dated: August 26, 2010.
James Scott Sledge,
Chief U.S. Copyright Royalty Judge.

[FR Doc. 2010-21684 Filed 8-30-10; 8:45 am]

BILLING CODE 1410-72-P